NUCLEAR REGULATORY COMMISSION

[NRC-2012-0249]

Solicitation of Feedback and Lessons-Learned from the Pilot of the Revised Construction Reactor Oversight Process

AGENCY: Nuclear Regulatory Commission.

ACTION: Request for public participation in survey.

SUMMARY: The U.S. Nuclear Regulatory Commission (NRC or the Commission) is soliciting feedback and lessons-learned from members of the public, licensees, and interest groups regarding the effectiveness of the revised construction reactor oversight process (cROP) as demonstrated during the pilot program currently in progress. This solicitation will allow external stakeholder to provide insights to support the staff assessment of the pilot results. A summary of the responses to the survey will be included in the cROP pilot assessment report to the Commission.

DATES: Complete and submit survey forms by December 31, 2012. The NRC will consider survey forms received after this date if it is practical to do so, but is able to ensure consideration of only survey forms received on or before this date.

ADDRESSES: Please refer to Docket ID NRC-2012-0249 when contacting the NRC about the availability of information regarding this document. You may access information related to this document, which the NRC possesses and are publicly available, using any of the following methods:

• Federal Rulemaking Web site: Go to http://www.regulations.gov and search for Docket ID NRC-2012-0249. Address questions about NRC dockets to Carol Gallagher; telephone: 301-492-3668; email: Carol.Gallagher@nrc.gov.

• Email Survey to: NRO_cROP.Resource@nrc.gov.

• Mail Survey to: Cindy Bladey, Chief, Rules, Announcements, and Directives Branch (RADB), Office of Administration, Mail Stop: TWB-05-B01M, U.S. Nuclear Regulatory Commission, Washington, DC 20555-0001.

• Fax Survey to: RADB at 301-492-3446.

The electronic version of the survey questions may be obtained at http://www.nrc.gov/reactors/new-reactors/oversight/crop/con-pilot.html. For additional instructions on submitting surveys and instructions on accessing documents related to this action, see Section I, “Accessing Information and Submitting Surveys”; of the SUPPLEMENTARY INFORMATION section of this document. If you cannot access the electronic version of the survey, contact the individual listed in the FOR FURTHER INFORMATION CONTACT section of this document to receive a copy of the survey.

FOR FURTHER INFORMATION CONTACT: Jose Jimenez, Operation Reactor Engineer, Office of New Reactors, U.S. Nuclear Regulatory Commission, Washington, DC 20555-0001; telephone: 301-415-5303; Jose.Jimenez@nrc.gov.

SUPPLEMENTARY INFORMATION:

I. Accessing Information and Submitting Surveys

Please include Docket ID NRC-2012-0249 in the subject line of your survey submission, in order to ensure that the NRC is able to make your submission available to the public in this docket. Surveys submitted in writing or in electronic form will be posted on the NRC's Web site and on the Federal rulemaking Web site, http://www.regulations.gov/.

The NRC cautions you not to include identifying or contact information that that you do not want to be publicly disclosed in your submission. The NRC will post all submissions at http://www.regulations.gov as well as enter the submissions into ADAMS. The NRC does not routinely edit submissions to remove identifying or contact information.

If you are requesting or aggregating submissions from other persons to the NRC, then you should inform those persons not to include identifying or contact information that they do not want to be publicly disclosed in their submission. Your request should state that the NRC does not routinely edit to remove such information before making the submissions available to the public or entering the submissions into ADAMS.

You can access publicly available documents related to this notice using the following methods:

• NRC's Public Document Room (PDR): The public may examine and have copied for a fee publicly available documents at the NRC's PDR, Room O1 F21, One White Flint North, 11555 Rockville Pike, Rockville, Maryland 20852.

• NRC's Agencywide Documents Access and Management System (ADAMS): Publicly available documents created or received at the NRC are available electronically at the NRC's Electronic Reading Room at http://www.nrc.gov/reading-rm/adams.html. From this page, the public can gain entry into ADAMS, which provides text and image files of NRC's public documents. If you do not have access to ADAMS or if there are problems in accessing the documents located in ADAMS, contact the NRC's PDR reference staff at 1-800-397-4209, 301-415-4737, or by email to pdr.resource@nrc.gov. The 2012, cROP pilot Survey is available electronically under ADAMS Accession Number ML12271A391.

• Federal Rulemaking Web site: Public survey submissions and supporting materials related to this action can be found at http://www.regulations.gov/ by searching on Docket ID NRC-2012-0249.

Information regarding the cROP and licensee performance can be found at http://www.nrc.gov/reactors/new-reactors/oversight/crop.html. In addition, the Commission paper may be accessed at this link when completed.

II. Program Overview

The mission of the NRC is to license and regulate the Nation's civilian use of byproduct, source, and special nuclear materials to ensure adequate protection of public health and safety, promote the common defense and security, and protect the environment. Specifically, for an application to construct a nuclear plant as specified in part 52 of Title 10 of the Code of Federal Regulations (10 CFR), the NRC's mission is accomplished through the following activities:

1. The NRC issues a combined license (COL) for the construction and operation of a nuclear facility following a detailed safety review;

2. The NRC inspects licensee construction activities to ensure compliance with regulatory requirements and the law.

It is the responsibility of the COL holder to ensure that the facility is constructed in accordance with the license and regulations. The NRC will inspect and assess licensee construction activities to provide reasonable assurance that the plant is constructed in accordance with the licensing basis. The NRC has applied lessons-learned from the prior plants constructed under 10 CFR part 50 in the development of the current construction regulatory oversight process. The cROP currently being piloted consists of many of the same objective elements as those used in the reactor oversight process (ROP), starting with a construction regulatory framework and including a construction significance determination process, a construction action matrix, and a similar enforcement approach to that which is in use in the ROP. The NRC engaged Regional and Headquarters staff and external stakeholders in the development of all portions of the new cROP, including the solicitation and appropriate disposition of all stakeholder comments received. Since the development and implementation of the cROP pilot program, the NRC has continued to solicit stakeholder input and has frequently communicated with the public and industry by various initiatives such as: conducting public meetings in the vicinity of each licensed commercial nuclear power plant, conducting public meetings and workshops, and placing pertinent background information and maintaining an NRC Web site containing easily accessible information about the cROP and licensee performance.

III. NRC Public Stakeholder Comments

The NRC is seeking feedback and lessons-learned from members of the public, public interest groups, and the nuclear industry on their insights regarding the effectiveness of the cROP pilot program which is being conducted during Calendar Year (CY) 2012. Responses received will provide important information for ongoing program staff, evaluation and improvement. A summary of the survey results obtained will be provided to the Commission via the staff evaluation, and will be used during the decision of whether or not the new cROP should be fully implemented.

IV. Survey

An electronic version of the survey questions may be obtained at http://www.nrc.gov/reactors/new-reactors/oversight/crop/con-pilot.html. If you have problems accessing the electronic version of the survey, contact the individual listed in the FOR FURTHER INFORMATION CONTACT section of this document to receive a copy of this survey. You may submit the survey to the NRC by any one of the methods listed in the ADDRESSES section of this document. The NRC does not plan to provide specific responses to the submissions received during this solicitation. The survey submissions will provide insights into the self-assessment process and a summary of the survey results will be included in the annual cROP self-assessment report to the Commission.

V. Paperwork Reduction Act

This survey contains information collections that are subject to the Paperwork Reduction Act of 1995 (44 U.S.C. 3501 et seq.). These information collections were approved by the Office of Management and Budget (OMB), Approval Number 3150-0197. The burden to the public for these voluntary information collections is estimated to be 45 minutes per response. The information gathered will be used in the NRC's self-assessment of the construction reactor oversight process and to determine whether or not the new process should be fully implemented. Send comments regarding this burden estimate to the Information Services Branch (T-5 F53), U.S. Nuclear Regulatory Commission, Washington, DC 20555-0001, or by Internet electronic mail to INFOCOLLECTS.RESOURCE@NRC.GOV; and to the Desk Officer, Chad Whiteman, Office of Information and Regulatory Affairs, NEOB-10202, (3150-0197), Office of Management and Budget, Washington, DC 20503.

Public Protection Notification

The NRC may not conduct or sponsor, and a person is not required to respond to, a request for information or an information collection requirement unless the requesting document displays a currently valid OMB control number.

Dated at Rockville, Maryland, this 12th day of October, 2012.
For the U.S. Nuclear Regulatory Commission.
James Luehman,
Deputy Director, Division of Construction Inspection & Operational Programs, Office of New Reactors.

[FR Doc. 2012-25931 Filed 10-19-12; 8:45 am]

BILLING CODE 7590-01-P